DEPARTMENT OF THE INTERIOR

Fish and Wildlife Service

[FWS-R8-ES-2011-N051;80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before April 15, 2011.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-815214

Applicant: Oceano Dunes State Vehicular Recreation Area, Arroyo Grande, California.

The applicant requests an amendment to an existing permit (February 13, 2008, 73 FR 8344) to take (set up and use remote sensing cameras to document and identify predation) the California least tern (Sterna antillarumbrowni) in conjunction with population monitoring and predator management activities in San Luis Obispo and Santa Barbara Counties, California, for the purpose of enhancing their survival.

Permit No. TE-33863A

Applicant: Deborah K. Blackburn, Austin, Texas.

The applicant requests apermitto take (harass by survey) the southwestern willow flycatcher (Empidonaxtrailliiextimus) in conjunction with surveys and population monitoring activities throughout the range of the species in California and Nevada for the purpose of enhancing its survival.

Permit No. TE-064431

Applicant: Aztec Engineering Group Inc., Phoenix, Arizona.

The applicant requests an amendment to an existing permit (February 10, 2011, 76 FR 7577) to take (harass by survey and monitor nests) the southwestern willow flycatcher (Empidonaxtrailliiextimus), and take (harass by survey) the Yuma clapper rail (Ralluslongirostrisyumanensis) in conjunction with surveys and population monitoring activities throughout the range of each species in California and Nevada for the purpose of enhancing their survival.

Permit No. TE-027422

Applicant: Brian T. Pittman, Petaluma, California.

The applicant requests an amendment to an existing permit (June 20, 2000, 65 FR 38297) to take (harass by survey, capture, handle, measure, and release) the arroyo toad (Anaxyruscalifornicus), and take (harass by survey, capture, handle, mark, collect biological samples, collect voucher specimens) the California tiger salamander (Ambystomacaliforniense) in conjunction with surveys, genetic study,and population monitoring activities throughout the range of each species in California for the purpose of enhancing their survival.

Permit No. TE-213726

Applicant: Joelle J. Fournier, San Diego, California.

The applicant requests an amendment to an existing permit (May 3, 2010, 75 FR 23287) to take (harass by survey, trap, capture, band adults, erect fence, use cameras, handle, transport sick and injured chicks and adults, and collect and transport abandoned eggs) the California least tern (Sterna antillarumbrowni) in conjunction with surveys, population monitoring and rehabilitation activities at Camp Pendleton Marine Base, Naval Amphibious Base Coronado, Naval Air Station North Island, and Silver Strand Training Complex South in San Diego County, California, for the purpose of enhancing its survival.

Permit No. TE-34570A

Applicant: San Francisco Bird Observatory, Milpitas, California.

The applicant requests a permit to take (harass by survey, monitor nests, and use cameras) the California least tern (Sterna antillarumbrowni) in conjunction with surveysand population monitoring activities in Santa Clara, San Mateo, Alameda, and Napa Counties, California, for the purpose of enhancing its survival.

Permit No. TE-172638

Applicant: Kevin S. Livergood, Foothill Ranch, California.

The applicant requests an amendment to an existing permit, which we granted March 6, 2008, for a Federally threatened species. The original permit allowed the applicant to take (harass by survey) the coastal California gnatcatcher (Polioptila californica californica) in conjunction with survey activities throughout the range of the species in California for the purpose of enhancing its survival. The applicant requests an amendment to take (capture, collect, and kill) the Conservancy fairy shrimp (Branchinectaconservatio), the longhorn fairy shrimp (Branchinectalongiantenna), the Riverside fairy shrimp (Streptocephaluswoottoni), the San Diego fairy shrimp (Branchinectasandiegonensis), and the vernal pool tadpole shrimp (Lepiduruspackardi) in conjunction with survey activities throughout the range of each species in California for the purpose of enhancing their survival.

Permit No. TE-817400

Applicant: East Bay Regional Park District, Oakland, California.

The applicant requests an amendment to an existing permit (April 22, 2008, 73 FR 21645) to take (capture, collect, and kill) the Conservancy fairy shrimp (Branchinectaconservatio), the longhorn fairy shrimp (Branchinectalongiantenna), and the vernal pool tadpole shrimp (Lepiduruspackardi) in conjunction with survey activities in Alameda and Contra Costa Counties, California, for the purpose of enhancing their survival.

Permit No. TE-795930

Applicant: Map Associates, Chico, California.

The applicant requests an amendment to an existing permit (April 21, 2010, 75 FR 20857) to take (collect soil containing Federally listed fairy shrimp cysts, translocate, and inoculate cysts into restored vernal pools) the vernal pool tadpole shrimp (Lepiduruspackardi) in conjunction with vernal pool restoration and population enhancement activities in Butte County, California, for the purpose of enhancing its survival.

Permit No. TE-35000A

Applicant: University of California, Davis, California.

The applicant requests a permit to take (survey, capture, handle, take biological samples, and release) the salt marsh harvest mouse (Reithrodontomysraviventris) in conjunction with ecological research and genetic studies in Solano, Napa, Sonoma, Marin, Contra Costa, Alameda, San Mateo, and San Francisco Counties, California, for the purpose of enhancing its survival.

Permit No. TE-35207A

Applicant: Jordan J. Zylstra, San Jacinto, California.

The applicant requests a permit to take (survey by pursuit) the Quino checkerspot butterfly (Euphydryasedithaquino) in conjunction with surveys throughout the range of the species in California for the purpose of enhancing its survival.

Permit No. TE-104080

Applicant: Stephen A. Sykes, Rocklin, California.

The applicant requests a permit to take (survey, capture, handle, and release) the California tiger salamander (Ambystomacaliforniense) in conjunction with surveys throughout the range of the species in California for the purpose of enhancing its survival.

Permit No. TE-35388A

Applicant: Steven M. Ritt, San Diego, California.

The applicant requests apermitto take (harass by survey) the southwestern willow flycatcher (Empidonaxtrailliiextimus) in conjunction with surveys and population monitoring activities throughout the range of the species in California for the purpose of enhancing its survival.

Permit No. TE-35387A

Applicant: Danielle C. Glenn, Ventura, California.

The applicant requests apermit to take (harass by survey, locate, and monitor nests) the California least tern (Sterna antillarumbrowni) in conjunction with surveys and population monitoring activities throughout the range of the species in Ventura County, California, for the purpose of enhancing its survival.

Permit No. TE-039640

Applicant: Kristopher R. Alberts, San Clemente, California.

The applicant requests an amendment to an existing permit (April 7, 2008, 73 FR 18804) to take (survey by pursuit) the Quino checkerspot butterfly (Euphydryasedithaquino) in conjunction with surveys throughout the range of the species in California for the purpose of enhancing its survival.

We invite public review and comment on each of these recovery permit applications. Comments and materials we receive will be available for public inspection, by appointment, during normal business hours at the address listed in the ADDRESSES section of this notice.

Michael Long,
Acting Regional Director, Region 8, Sacramento, California.

[FR Doc. 2011-6104 Filed 3-15-11; 8:45 am]

BILLING CODE 4310-55-P